DEPARTMENT OF ENERGY

Federal Energy Regulatory Commission

[Docket No. RP03-352-002]

Southern Star Central Gas Pipeline, Inc.; Notice of Tariff Filing

August 12, 2003.

Take notice that on August 6, 2003, Southern Star Central Gas Pipeline, Inc. (Southern Star) tendered for filing as part of its FERC Gas Tariff, Original Volume No. 1, the tariff sheets listed below to become effective May 1, 2003:

Substitute Original Sheet No. 5.

Substitute Original Sheet No. 400.

Substitute Original Sheet No. 408.

Substitute Original Sheet No. 416.

Substitute Original Sheet No. 423.

Substitute Original Sheet No. 430.

Substitute Original Sheet No. 438.

Substitute Original Sheet No. 444.

Substitute Original Sheet No. 451.

Substitute Original Sheet No. 456.

Substitute Original Sheet No. 457.

Substitute Original Sheet No. 462.

Substitute Original Sheet No. 500.

Southern Star states that the purpose of this filing is to correct an inadvertent error in their April 25, 2003 filing by changing the company description to “a Delaware corporation” on the applicable tariff sheets from the incorrect description “a Delaware limited liability company”.

Southern Star states that copies of the filing are being served upon Southern Star's jurisdictional customers and interested state commissions, and those parties appearing on the official service list for this docket.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eFiling (FERRIS) link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: August 18, 2003.

Linda Mitry,
Acting Secretary.

[FR Doc. 03-21099 Filed 8-15-03; 8:45 am]

BILLING CODE 6717-01-P